DEPARTMENT OF COMMERCE

International Trade Administration

[A-570-851]

Certain Preserved Mushrooms From the People's Republic of China: Initiation of Antidumping Duty New Shipper Review

AGENCY: Import Administration, International Trade Administration, Department of Commerce.

SUMMARY: The Department of Commerce (the Department) has received a request for a new shipper review (NSR) of the antidumping duty order on certain preserved mushrooms from the People's Republic of China (PRC). In accordance with section 751(a)(2)(B) of the Tariff Act of 1930, as amended (the Act), and 19 CFR 351.214(d), we are initiating an antidumping duty NSR of Zhangzhou Long Mountain Foods Co., Ltd. (Long Mountain). The period of review (POR) of this NSR is February 1, 2010, through January 31, 2011.

DATES: Effective Date: March 31, 2011.

FOR FURTHER INFORMATION CONTACT: Fred Baker, Scott Hoefke, or Robert James, AD/CVD Operations, Office 7, Import Administration, International Trade Administration, U.S. Department of Commerce, 14th Street and Constitution Avenue, NW., Washington, DC 20230, telephone: (202) 482-2924, (202) 482-4947, or (202) 482-0649, respectively.

SUPPLEMENTARY INFORMATION:

Background

On February 19, 1999, the Department published the antidumping duty order on certain preserved mushrooms from the PRC. See Notice of Amendment of Final Determination of Sales at Less Than Fair Value and Antidumping Duty Order: Certain Preserved Mushrooms From the People's Republic of China, 64 FR 8308 (February 19, 1999). Thus, the antidumping duty order on certain preserved mushrooms from the PRC has a February anniversary month. On February 28, 2011, the Department received a request for an NSR from Long Mountain. In its request for review, Long Mountain identified itself as both exporter and producer of the subject merchandise. The Department determined that Long Mountain's request contained certain deficiencies and requested that it correct its submission. See March 15, 2011 letter from Robert James, Program Manager, to Long Mountain. In accordance with the Department's requests, Long Mountain corrected the problems in its initial submission in a revised submission dated March 18, 2011. For the purpose of initiating this NSR, the Department determines that Long Mountain's request for an NSR was timely filed.

Pursuant to the requirements set forth in section 751(a)(2)(B)(i) of the Act and 19 CFR 351.214(b)(2), Long Mountain certified that (1) It did not export subject merchandise to the United States during the period of investigation (POI) (see section 751(a)(2)(B)(i)(I) of the Act and 19 CFR 351.214(b)(2)(i)); (2) since the initiation of the investigation it has never been affiliated with any company that exported subject merchandise to the United States during the POI, including those companies not individually examined during the investigation (see section 751(a)(2)(B)(i)(II) of the Act and19 CFR 351.214(b)(2)(iii)(A)); and (3) its export activities were not controlled by the central government of the PRC (see 19 CFR 351.214(b)(2)(iii)(B)). Additionally, in accordance with 19 CFR 351.214(b)(2)(iv), Long Mountain submitted documentation establishing the following: (1) The date on which it first shipped subject merchandise to the United States; (2) the volume of its first shipment; and (3) the date of its first sale to an unaffiliated customers in the United States. In accordance with 19 CFR 351.214(b)(2)(iv)(B), Long Mountain also provided the volume of its one subsequent shipment, dated January 30, 2011, which the company indicated was in transit to the United States.

Initiation of Review

Based on information on the record, and in accordance with section 751(a)(2)(B) of the Act and 19 CFR 351.214(d), we find the request Long Mountain submitted meets the statutory and regulatory requirements for initiation of an NSR. See Memorandum to the File through Richard Weible, “Initiation of AD New Shipper Review: Certain Preserved Mushrooms from the People's Republic of China (A-570-851),” dated March 31, 2011. Accordingly, we are initiating an NSR of the antidumping duty order on certain preserved mushrooms from the PRC produced and exported by Long Mountain. This review covers the period February 1, 2010, through January 31, 2011. We intend to issue the preliminary results of this review no later than 180 days after the date on which this review is initiated, and the final results within 90 days after the date on which we issue the preliminary results. See section 751(a)(2)(B)(iv) of the Act and 19 CFR 351.214(h)(i).

In cases involving non-market economies, the Department requires that a company seeking to establish eligibility for an antidumping duty rate separate from the country-wide rate provide evidence of de jure and de facto absence of government control over the company's export activities. See, generally, Wooden Bedroom Furniture from the People's Republic of China: Preliminary Results of Antidumping Duty New Shipper Reviews, 75 FR 72794 (November 26, 2010), unchanged in Wooden Bedroom Furniture from the People's Republic of China: Final Results of Antidumping Duty New Shipper Reviews, 76 FR 9747 (February 22, 2011). Accordingly, we will issue a questionnaire to Long Mountain that will include a separate rates section. This review will proceed if the response provides sufficient indication that Long Mountain is not subject to either de jure or de facto government control with respect to its shipments of preserved mushrooms.

Upon initiation, we will direct U.S. Customs and Border Protection (CBP) to suspend liquidation of any unliquidated entries of subject merchandise produced and exported by Long Mountain and will instruct the CBP to allow, at the option of the importer, the posting, until the completion of the review, of a bond or security in lieu of a cash deposit for certain entries of the subject merchandise produced and exported by Long Mountain in accordance with section 751(a)(2)(B)(iii) of the Act and 19 CFR 351.214(e). Because Long Mountain certified that it both produced and exported the subject merchandise, the sales of which form the basis for its NSR request, we will instruct CBP to permit the use of a bond only for entries of subject merchandise where Long Mountain acted both as producer and exporter.

To assist in its analysis of the bona fides of Long Mountain's sales, upon initiation of this NSR, the Department will require Long Mountain to submit on an ongoing basis complete transaction information concerning any sales of subject merchandise to the United States that were made subsequent to the POR.

Interested parties requiring access to business proprietary information in this NSR should submit applications for disclosure under administrative protective order in accordance with 19 CFR 351.305 and 351.306.

This notice serves as a reminder that any party submitting factual information in an AD/CVD proceeding must certify to the accuracy and completeness of that information. See Section 782(b) of the Act. Parties are hereby reminded that revised certification requirements are in effect for company/government officials as well as their representatives in all AD/CVD investigations or proceedings initiated on or after March 14, 2011. See Certification of Factual Information to Import Administration During Antidumping and Countervailing Duty Proceedings: Interim Final Rule, 76 FR 7491 (February 10, 2011) (Interim Final Rule) amending 19 CFR 351.303(g)(1) and (2). The formats for the revised certifications are provided at the end of the Interim Final Rule. The Department intends to reject factual submissions in investigations/proceedings initiated on or after March 14, 2011 if the submitting party does not comply with the revised certification requirements.

Dated: March 24, 2011.
Christian Marsh,
Deputy Assistant Secretary for Antidumping and Countervailing Duty Operations.

[FR Doc. 2011-7619 Filed 3-30-11; 8:45 am]

BILLING CODE 3510-DS-P